DEPARTMENT OF HEALTH AND HUMAN SERVICES

Health Resources and Services Administration

Agency Information Collection Activities: Proposed Collection: Public Comment Request; Evidence Based Telehealth Network Program Measures

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than February 8, 2023.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer at 301-594-4394.

SUPPLEMENTARY INFORMATION: When submitting comments or requesting information, please include the information collection request title for reference.

Information Collection Request Title: Evidence Based Telehealth Network Program Measures OMB No. 0906-0043—Extension.

Abstract: This ICR is for an extension of currently approved measures for the Office for the Advancement of Telehealth (OAT)'s Evidence Based Telehealth Network Program, under which OAT administers cooperative agreements in accordance with section 330I of the Public Health Service Act (42 U.S.C. 254c-14), as amended. The purpose of this program is to demonstrate how telehealth programs and networks can improve access to quality health care services. This program will work to help HRSA assess the effectiveness of evidence-based practices with the use of telehealth for patients, providers, and payers.

Need and Proposed Use of the Information: The measures will enable HRSA and OAT to capture awardee-level and aggregate data that illustrate the impact and scope of federal funding along with assessing these efforts. The measures cover the principal topic areas of interest to OAT, including: (a) population demographics; (b) access to health care; (c) cost savings and cost-effectiveness; and (d) clinical outcomes.

Likely Respondents: The respondents would be award recipients of the Evidence Based Telehealth Network Program.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Evidence-Based Telehealth Network Program Report | 14 | 12 | 12 | 11 | 1,848
Telehealth Performance Measurement Report | 14 | 1 | 1 | 5 | 70
Total | * 14 |  |  |  | 1,918
* HRSA estimates 14 unique respondents, each completing the two forms.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-00096 Filed 1-6-23; 8:45 am]

BILLING CODE 4165-15-P